DEPARTMENT OF COMMERCE

International Trade Administration

[A-489-853, A-570-174]

Certain Brake Drums From the Republic of Türkiye and the People's Republic of China: Postponement of Preliminary Determinations in the Less-Than-Fair-Value Investigations

AGENCY: Enforcement and Compliance, International Trade Administration, Department of Commerce.

DATES: Applicable November 20, 2024.

FOR FURTHER INFORMATION CONTACT: Eric Hawkins (Republic of Türkiye (Türkiye)) or Samuel Frost (People's Republic of China (China)), AD/CVD Operations, Office V, Enforcement and Compliance, International Trade Administration, U.S. Department of Commerce, 1401 Constitution Avenue NW, Washington, DC 20230, telephone: (202) 482-1988 or (202) 482-8180, respectively.

SUPPLEMENTARY INFORMATION:

Background

On July 10, 2024, the U.S. Department of Commerce (Commerce) initiated less-than-fair-value (LTFV) investigations of certain brake drums (brake drums) from Türkiye and China.¹ On July 22, 2024, Commerce tolled certain deadlines in this administrative proceeding by seven days.² The deadline for the preliminary determinations is now December 4, 2024.

¹ See Certain Brake Drums from the Republic of Türkiye and the People's Republic of China: Initiation of Less-Than-Fair-Value Investigations, 89 FR 58166 (July 17, 2024).

² See Memorandum, “Tolling of Deadlines for Antidumping and Countervailing Duty Proceedings,” dated July 22, 2024.

Postponement of Preliminary Determinations

Section 733(b)(1)(A) of the Tariff Act of 1930, as amended (the Act), requires Commerce to issue the preliminary determination in an LTFV investigation within 140 days after the date on which Commerce initiated the investigation. However, section 733(c)(1) of the Act permits Commerce to postpone the preliminary determination until no later than 190 days after the date on which Commerce initiated the investigation if: (A) the petitioner makes a timely request for a postponement; or (B) Commerce concludes that the parties concerned are cooperating, that the investigation is extraordinarily complicated, and that additional time is necessary to make a preliminary determination. Under 19 CFR 351.205(e), the petitioner must submit a request for postponement 25 days or more before the scheduled date of the preliminary determination and must state the reasons for the request. Commerce will grant the request unless it finds compelling reasons to deny the request.

On November 7, 2024, Webb Wheel Products, Inc. (the petitioner) submitted a timely request that Commerce postpone the preliminary determinations in the LTFV investigations of brake drums from Türkiye and China.³ The petitioner requested postponement of the preliminary determinations in these investigations so that Commerce can fully analyze the forthcoming questionnaire responses of the mandatory respondents and issue supplemental questionnaires, as necessary.⁴

³ See Petitioner's Letter, “Request to Extend the Deadline for the Preliminary Determination,” dated November 7, 2024.

⁴ Id.

For the reasons stated above, and because there are no compelling reasons to deny the request, in accordance with section 733(c)(1)(A) of the Act and 19 CFR 351.205(e), Commerce is postponing the deadline for the preliminary determinations by 50 days. As a result, Commerce will issue its preliminary determinations no later than January 23, 2025. In accordance with section 735(a)(1) of the Act and 19 CFR 351.210(b)(1), the deadline for the final determinations in these investigations will continue to be 75 days after the date of the preliminary determinations, unless postponed further.

Notification to Interested Parties

This notice is issued and published pursuant to section 733(c)(2) of the Act and 19 CFR 351.205(f)(1).

Dated: November 13, 2024.
Abdelali Elouaradia,
Deputy Assistant Secretary for Enforcement and Compliance.

[FR Doc. 2024-27006 Filed 11-19-24; 8:45 am]

BILLING CODE 3510-DS-P